ENVIRONMENTAL PROTECTION AGENCY

40 CFR Part 63

[EPA-HQ-OAR-2010-0600; FRL-9801-4]

RIN 2060-AQ60

Reconsideration Petition From the National Association of Surface Finishers for the National Emission Standards for Hazardous Air Pollutant Emissions: Hard and Decorative Chromium Electroplating and Chromium Anodizing Tanks; and Steel Pickling—HCl Process Facilities and Hydrochloric Acid Regeneration Plants

AGENCY: Environmental Protection Agency EPA).

ACTION: Notice of Final Action Denying Petition for Reconsideration.

SUMMARY: This action provides notice that on March 28, 2013, the Acting EPA Administrator, Bob Perciasepe, signed a letter denying a petition for reconsideration of the final rule published in the Federal Register on September 19, 2012. The rule established new emission limits for hard and decorative chromium electroplating and chromium anodizing tanks, and steel pickling—HCl process facilities and hydrochloric acid regeneration plants.

DATES: Effective: April 19, 2013.

Petitions: Any petitions for review of the letter and enclosure denying the petition for reconsideration described in this document must be filed in the Court of Appeals for the District of Columbia Circuit by June 18, 2013.

FOR FURTHER INFORMATION CONTACT: Mr. Phil Mulrine, Sector Policies and Programs Division (D243-02), Office of Air Quality Planning and Standards, Environmental Protection Agency, Research Triangle Park, North Carolina 27711; telephone number: (919) 541-5289; fax number: (919) 541-3207; email address: mulrine.phil@epa.gov.

SUPPLEMENTARY INFORMATION:

Description of Action: The EPA is providing notice that it has denied a petition for reconsideration of a final rule published in the Federal Register on September 19, 2012. The rule established new emission limits for hard and decorative chromium electroplating and chromium anodizing tanks, and steel pickling—HCl process facilities and hydrochloric acid regeneration plants, and was issued pursuant to the EPA's authority under sections 112(d)(6) and (f)(2) of the Clean Air Act (CAA). After publication of the rule, the EPA received a petition for reconsideration of the final rule from the National Association of Surface Finishers (NASF). After carefully considering the petition and supporting information, the Acting EPA Administrator, Bob Perciasepe, denied the petition for reconsideration on March 28, 2013, in a letter to the petitioner. The EPA denied the petition because it failed to meet the criteria for reconsideration in CAA section 307(d)(7)(B). The letter and an accompanying enclosure explain in detail the EPA's reasons for the denial.

I. How can I get copies of this document and other related information?

This Federal Register notice, the petition for reconsideration and the letter denying the petition for reconsideration are available in the docket that the EPA established under Docket ID No. EPA-HQ-OAR-2010-0600. The document identification number for the petition for reconsideration is: NASF, EPA-HQ-OAR-2010-0600-0693. The document identification number for EPA's response letter is: NASF, EPA-HQ-OAR-2010-0600-0695. All documents in the docket are listed on the www.regulations.gov Web site. Although listed in the index, some information is not publicly available, e.g., confidential business information or other information whose disclosure is restricted by statute. Certain other material, such as copyrighted material, is not placed on the Internet and will be publicly available only in hard copy form. Publicly available docket materials are available either electronically through www.regulations.gov or in hard copy at the EPA Docket Center (Air Docket), EPA/DC, EPA West, Room 3334, 1301 Constitution Ave. NW., Washington, DC. The Public Reading Room is open from 8:30 a.m. to 4:30 p.m., Monday through Friday, excluding legal holidays. The telephone number for the Public Reading Room is (202) 566-1744 and the telephone number for the Air Docket is (202) 566-1742.

This Federal Register notice, the petition for reconsideration and the letter denying the petition can also be found on the EPA's Web site at http://www.epa.gov/ttn/atw/chrome/chromepg.html.

II. Judicial Review

Any petitions for review of the letter and enclosure denying the petition for reconsideration described in this Notice must be filed in the Court of Appeals for the District of Columbia Circuit by June 18, 2013.

List of Subjects in 40 CFR Part 63

Environmental protection, Administrative practice and procedure, Air pollution control, Intergovernmental relations, Reporting and recordkeeping requirements.

Dated: April 12, 2013.
Bob Perciasepe,
Acting Administrator.

[FR Doc. 2013-09304 Filed 4-18-13; 8:45 am]

BILLING CODE 6560-50-P